DEPARTMENT OF COMMERCE

National Oceanic and Atmospheric Administration

[I.D. 051204A]

Vessel Monitoring Systems (VMS); Certification of New VMS Unit for Use in Northeast Fisheries

AGENCY: National Marine Fisheries Service (NMFS), National Oceanic and Atmospheric Administration (NOAA), Commerce.

ACTION: Notice of VMS unit certification.

SUMMARY: NMFS announces the approval and certification of the SkyMate VMS unit for use in all fisheries in the northeastern United States in which VMS units are required.

DATES: This new SkyMate VMS unit can be used effective May 24, 2004.

FOR FURTHER INFORMATION CONTACT: Northeast Office for Law Enforcement, VMS Program, telephone 978-281-9213.

SUPPLEMENTARY INFORMATION: Regulations at 50 CFR 648.9 set forth VMS requirements for fisheries in the northeastern United States that require the use of VMS for fishery monitoring and/or reporting. Specifically, § 648.9(b) lists minimum VMS performance criteria that a VMS unit must meet in order to be certified for use.

The Administrator, Northeast Region, NMFS, has reviewed all components of the SkyMate and other information provided by the vendor and has certified the following unit for use in all Northeast fisheries in which VMS units are required: SkyMate VMS, available from SkyMate Inc., 14000 Willard Road, Suite #2, Chantilly, VA, 20151; phone 703-636-4220 or 866-SKYMATE; fax 703-814-8585; email skymate.com.

Authority: 16 U.S.C. 1801 et seq.

Dated: May 18, 2004.
Galen R. Tromble,
Acting Director, Office of Sustainable Fisheries, National Marine Fisheries Service.

[FR Doc. 04-11662 Filed 5-21-04; 8:45 am]

BILLING CODE 3510-22-S